DEPARTMENT OF DEFENSE

48 CFR Part 242

[DFARS Case 2004-D007]

Defense Federal Acquisition Regulation Supplement; Assignment of Contract Administration—Exception for Defense Energy Support Center

AGENCY: Department of Defense (DoD).

ACTION: Final rule.

SUMMARY: DoD has issued a final rule amending the Defense Federal Acquisition Regulation Supplement (DFARS) to reflect a memorandum of agreement between the Defense Contract Management Agency and the Defense Energy Support Center that provides for the Defense Energy Support Center to perform contract administration functions for all contracts it awards. This arrangement eliminates duplication of effort in the bulk fuel quality management program.

DATES: Effective September 1, 2005.

FOR FURTHER INFORMATION CONTACT: Ms. Deborah Tronic, Defense Acquisition Regulations Council, OUSD (AT&L) DPAP (DAR), IMD 3C132, 3062 Defense Pentagon, Washington, DC 20301-3062. Telephone (703) 602-0289; facsimile (703) 602-0350. Please cite DFARS Case 2004-D007.

SUPPLEMENTARY INFORMATION:

A. Background

DFARS 242.202(a)(i) specifies that, with certain exceptions, DoD activities shall not retain any contract for administration that requires performance of contract administration functions at or near contractor facilities. This final rule adds a new exception to the policy at DFARS 242.202(a)(i) to reflect a memorandum of agreement between the Defense Contract Management Agency and the Defense Energy Support Center, which provides for the Defense Energy Support Center to perform contract administration functions for all contracts it awards. This arrangement eliminates duplication of effort in the bulk fuel quality management program.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subpart in accordance with 5 U.S.C. 610. Such comments should cite DFARS Case 2004-D007.

C. Paperwork Reduction Act

The Paperwork Reduction Act does not apply because the rule does not impose any information collection requirements that require the approval of the Office of Management and Budget under 44 U.S.C. 3501, et seq.

List of Subjects in 48 CFR Part 242

Government procurement.

Michele P. Peterson,
Editor, Defense Acquisition Regulations System.

Therefore, 48 CFR Part 242 is amended as follows:

1. The authority citation for 48 CFR Part 242 continues to read as follows:

Authority: 41 U.S.C. 421 and 48 CFR Chapter 1.

PART 242—CONTRACT ADMINISTRATION AND AUDIT SERVICES

2. Section 242.202 is amended as follows:

a. In paragraph (a)(i)(P) by removing at the end “and”;

b. In paragraph (a)(i)(Q) by removing the period and adding “; and”; and

c. By adding paragraph (a)(i)(R) to read as follows:

242.202 Assignment of contract administration.

(a)(i) * * *

(R) The Defense Energy Support Center, Defense Logistics Agency.

* * * * *

[FR Doc. 05-17350 Filed 8-31-05; 8:45 am]

BILLING CODE 5001-01-P